DEPARTMENT OF AGRICULTURE

Commodity Credit Corporation

7 CFR Part 1414

[FSA-2026-0001]

RIN 0560-AI87

Farmer Bridge Assistance (FBA) Program; Approval of Information Collection Request

AGENCY: Commodity Credit Corporation, U.S. Department of Agriculture (USDA).

ACTION: Final rule; notice of approval of Information Collection Request (ICR).

SUMMARY: The final rule entitled Farmer Bridge Assistance (FBA) Program was published on February 23, 2026. The Office of Management and Budget cleared the associated information collection requirements (ICR) on February 26, 2026. This document announces approval of the ICR.

DATES: The ICR associated with the final rule published in the Federal Register on February 23, 2026, at 91 FR 8360, was approved by OMB on February 26, 2026, under OMB Control Number 0503-0028.

FOR FURTHER INFORMATION CONTACT: Michael Walter; telephone: (816) 491-6934; or email: Michael.Walter1@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION: The information collection request has been approved by OMB under the control number of 0503-0028; Expiration Date: 10/31/2027. CCC will issue payments to producers using the following forms: CCC-901, CCC-902E, CCC-902I, CCC-941, and AD-1026. The AD-1026 is exempt.¹ In addition, for the information collection under 0503-0028, the agency is seeking to use CCC-555 with this data collection. Farm Service Agency (FSA) will pre-fill FBA Program applications (CCC-555) using the acres of eligible planted commodities that were previously reported to FSA on FSA-578, Report of Acreage by the earlier of the deadline established in 7 CFR part 718 or December 19, 2025. The CCC-555 is the only new data collection activity associated with this request. The total annual burden hours for this information collection is 197,921.

¹ This information collection is exempted from the Paperwork Reduction Act as specified in the Agricultural Act of 2014 (Pub. L. 113-79, Title II, Subtitle G, Funding and Administration).

Kimberly Graham,
Acting Executive Vice President, Commodity Credit Corporation.

[FR Doc. 2026-04329 Filed 3-3-26; 8:45 am]

BILLING CODE 3411-E2-P